DEPARTMENT OF HEALTH AND HUMAN SERVICES

National Institutes of Health

Submission for OMB Review; Comment Request; A Follow-Up Survey of National Cancer Institute Science Enrichment Program Students

SUMMARY: Under the provisions of Section 3507(a)(1)(D) of the Paperwork Reduction Act of 1995, the National Cancer Institute (NCI), the National Institutes of Health (NIH) has submitted to the Office of Management and Budget (OMB) a request for review and approval of the information collection listed below. This proposed information collection was previously published in the Federal Register on April 9, 2001, pages 18488-18489 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: A Follow-up Survey of National Cancer Institute Science Enrichment Program Students. Type of Information Collection Request: New. Need and Use of Information Collection: This survey will investigate the long-term effects of the National Cancer Institute's Science Enrichment Program. The primary objective of the survey is to determine if past NCI SEP student participants are pursuing science education and science careers. The findings will provide information regarding the effectiveness of the program and will inform decisions about continuing and expanding the program. Frequency of Response: One time. Affected Public: Individuals. Type of Respondents: Young adults (18-23 years old). The annual reporting burden is as follows: Estimated Number of Respondents: 448; Estimated Number of Responses per Respondent: 1; Average Burden Hours Per Response: .2500; and Estimated Total Annual Burden Hours Requested: 112. The annualized cost to respondent is estimated at $4,480. There are no Capital Costs, Operating Costs and/or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20530, Attention: Desk Officer for NIH. To request more information on the proposed project or to obtain a copy of the data collection plans and instruments, contact Mr. Frank Jackson, Office of Special Populations Research, National Cancer Institute, National Institutes of Health, Executive Plaza South, Room 320, 6120 Executive Boulevard, Rockville, MD 20852, or call non-toll-free number (301) 496-8589, or E-mail your request, including your address to fj12i@nih.gov

‘Comments Due Date: Comments regarding this information collection are best assured of having their full effect if received within 30 days of the date of this publication.

Dated: May 6, 2002.
Reesa L. Nichols,
NCI Project Clearance Liaison.

[FR Doc. 02-11800 Filed 5-10-02; 8:45 am]

BILLING CODE 4140-01-M